DEPARTMENT OF COMMERCE

Bureau of Export Administration

Materials Technical Advisory Committee; Notice of Meeting Cancellation

Federal Register citation of previous announcement: 66 FR 44595, August 24, 2001.

Previously announced time of meeting: 10:30 a.m., September 10, 2001.

Dated: August 30, 2001.
Lee Ann Carpenter,
Committee Liaison Officer.

[FR Doc. 01-22215 Filed 8-31-01; 8:45 am]

BILLING CODE 3510-JT-M